FEDERAL MARITIME COMMISSION

[Docket No. 02-06]

Hudson Shipping (Hong Kong) Ltd. D/B/A Hudson Express Lines; Possible Violations of Section 10(a)(1) of the Shipping Act of 1984; Notice of Amended Order of Investigation

On April 5, 2002, the Federal Maritime Commission (“Commission”) served an Order of Investigation and Hearing (“Order”) on Hudson Shipping (Hong Kong) Ltd. d/b/a Hudson Express Lines (“Hudson”), instituting a proceeding to determine whether Hudson violated section 10(a)(1) of the Shipping Act of 1984 (“Shipping Act”) and, in the event violations are found, whether penalties should be assessed and, if so, in what amount and whether a cease and desist order should be issued. Notice of the Order was published in the Federal Register on April 18, 2002 (67 FR 19185).

Notice is hereby given that on January 17, 2003, the Commission amended the Order to also determine whether Hudson violated section 19(b)(1) of the Shipping Act; whether, in the event violations of section 19(b)(1) of the Shipping Act are found, civil penalties should be assessed against Hudson and in what amount; and whether, in the event violations are found, an appropriate cease and desist order should be issued.

Any person having an interest in participating in this proceeding may file a petition for leave to intervene in accordance with Rule 72 of the Commission's rules of practice and procedure, 46 CFR 502.72.

Bryant L. VanBrakle,
Secretary.

[FR Doc. 03-1590 Filed 1-23-03; 8:45 am]

BILLING CODE 6730-01-P